DEPARTMENT OF DEFENSE

Department of the Army

Availability for Non-Exclusive, Exclusive, or Partially Exclusive Licensing of U.S. Provisional Patent Application Concerning Monoclonal Antibodies Against Glycoprotein of Ebola Sudan Boniface Virus

AGENCY: Department of the Army, DoD.

ACTION: Notice.

SUMMARY: Announcement is made of the availability for licensing of the invention set forth in U.S. Provisional Patent Application Serial No. 61/290,725 entitled “Monoclonal Antibodies Against Glycoprotein of Ebola Sudan Boniface Virus,” filed December 29, 2009. The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Assessment, (301) 619-6664, both at telefax (301) 619-5034.

SUPPLEMENTARY INFORMATION: The invention relates generally to the field of antibodies. More specifically the invention relates to monoclonal antibodies against glycoproteins of the Ebola Sudan Boniface virus and methods of producing and using the same.

Brenda S. Bowen,
Army Federal Register Liaison Officer.

[FR Doc. 2010-1314 Filed 1-22-10; 8:45 am]

BILLING CODE 3710-08-P